DEPARTMENT OF ENERGY

Federal Energy Regulatory Commission

[Docket No. RP02-179-000]

Williams Gas Pipelines Central, Inc.; Notice of Proposed Changes in FERC Gas Tariff

March 7, 2002.

Take notice that on March 1, 2002, Williams Gas Pipelines Central, Inc. (Williams) tendered for filing as part of its FERC Gas Tariff, Original Volume No. 1, the tariff sheets listed in Appendix A to the filing, to become effective April 1, 2002.

Williams states that the revised tariff sheets are being filed to allow Williams to transition from a monthly allocation pipeline to a daily allocation pipeline. These changes coincide with the way the natural gas industry typically conducts its business as well as the capabilities Williams now has in measuring gas flow and providing accurate real time measurement to its point operators and shippers. Various meetings have been held with Williams' customers and state commissions to discuss the provisions of this change to a daily allocation system. Although the tariff sheets are proposed to go into effect April 1, 2002, as part of the discussions, Williams agreed to accept the maximum suspension period for the proposed tariff changes. This will allow Williams' customers and point operators more time to become accustomed to the new processes and allow for implementation, after the maximum suspension period, effective as of September 1, 2002.

Williams states that copies of the revised tariff sheets are being mailed to Williams' jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-5997 Filed 3-12-02; 8:45 am]

BILLING CODE 6717-01-P